SMALL BUSINESS ADMINISTRATION

[Declaration of Disaster #3512]

State of West Virginia; Amendment # 1

In accordance with the notice received from the Department of Homeland Security—Federal Emergency Management Agency, effective June 21, 2003, the above numbered declaration is hereby amended to include Cabell, Mingo, and McDowell Counties in the State of West Virginia as a disaster area due to damages caused by severe storms, flooding, and landslides that occurred June 11, 2003 and continuing.

In addition, applications for economic injury loans from small businesses located in the contiguous counties of Pike in the Commonwealth of Kentucky, and Buchanan, Mercer, and Tazewell counties in the Commonwealth of Virginia may be filed until the specified date at the previously designated location. All other counties contiguous to the above named primary counties have been previously declared.

The number for economic injury for the Commonwealth of Virginia is 9W13.

All other information remains the same, i.e., the deadline for filing applications for physical damage is August 20, 2003, and for economic injury the deadline is March 22, 2004.

(Catalog of Federal Domestic Assistance Program Nos. 59002 and 59008).
Dated: June 25, 2003.
Herbert L. Mitchell,
Associate Administrator for Disaster Assistance.

[FR Doc. 03-16697 Filed 7-1-03; 8:45 am]

BILLING CODE 8025-01-P